OFFICE OF THE UNITED STATES TRADE REPRESENTATIVE

Determination Under the Caribbean Basin Trade Partnership Act

AGENCY: Office of the United States Trade Representative.

ACTION: Notice.

SUMMARY: The United States Trade Representative has determined that Guyana is making substantial progress toward implementing and following the customs procedures required by the Caribbean Basin Trade Partnership Act and, therefore, imports of eligible products from Guyana qualify for the enhanced trade benefits provided under the Act.

EFFECTIVE DATE: November 9, 2000.

FOR FURTHER INFORMATION CONTACT: Christopher Wilson, Director for Central America and the Caribbean, Office of the United States Trade Representative, (202) 395-5190.

SUPPLEMENTARY INFORMATION: The Caribbean Basin Trade Partnership Act (Title II of the Trade and Development Act of 2000, Pub. L. No. 106-200) (CBTPA) expands the trade benefits available to Caribbean and Central American countries under the Caribbean Basin Economic Recovery Act (CBERA). The CBTPA reduces or eliminates tariffs and eliminates quantitative restrictions on certain products that previously were not eligible for preferential treatment under the CBERA. The enhanced trade benefits provided by the CBTPA are available to imports of eligible products from countries that (1) are designated as “CBTPA beneficiary countries,” and (2) have implemented and follow, or are making substantial progress toward implementing and following, certain customs procedures, drawn from Chapter 5 of the North American Free Trade Agreement, that allow U.S. Customs to verify the origin of the products.

On October 2, 2000, the President designated all 24 current beneficiaries under the CBERA as “CBTPA beneficiary countries.” Proclamation 7351 delegated to the United States Trade Representative (USTR) the authority to determine whether the designated CBTPA beneficiary countries have implemented and follow, or are making substantial progress toward implementing and following, the customs procedures required by the CBTPA. The President directed the USTR to announce any such determinations in the Federal Register and to implement any such determinations in the Harmonized Tariff Schedule of the United States (HTS).

Based on information and commitments provided by the Government of Guyana, I have determined that Guyana is making substantial progress toward implementing and following the customs procedures required by the CBTPA. Accordingly, pursuant to the authority vested in the USTR by Proclamation 7351, general note 17(a) to the HTS, U.S. note 7 to subchapter II of chapter 98 of the HTS, and U.S. note 1 to subchapter XX of chapter 98 of the HTS are each modified by inserting in alphabetical sequence in the list of eligible CBTPA beneficiary countries the name “Guyana.” General note 17(d) to the HTS is modified by striking “duty-free” and inserting in lieu thereof “tariff” and by striking “October 2, 2000” and inserting in lieu thereof “the date announced in one or more Federal Register notices issued by the United States Trade Representative as the date on which each CBTPA beneficiary country qualifies for the tariff treatment provided in this note.” The foregoing modifications to the HTS are effective with respect to articles entered, or withdrawn from warehouse for consumption, on or after November 9, 2000. The USTR will publish additional notices in the Federal Register announcing any determinations that other CBTPA beneficiary countries have satisfied the required customs procedures.

Richard Fisher,
Deputy United States Trade Representative.

[FR Doc. 00-29793 Filed 11-20-00; 8:45 am]

BILLING CODE 3190-01-M